SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before April 26, 2021.

ADDRESSES: Send all comments to, Cynthia Pitts, Office of Disaster Assistance, Small Business Administration.

FOR FURTHER INFORMATION CONTACT: Cynthia Pitts, Cynthia.pitts@sba.gov, (202) 205-7570.

SUPPLEMENTARY INFORMATION: The Coronavirus Aid, Relief, and Economic Security Act, Public Law 116-136 (April 27, 2020) authorized SBA to provide an Advance of up to $10,000 to applicants who applied for an economic injury disaster loan (EIDL) in response to the COVID-19 pandemic. SBA developed a streamlined information collection to implement this EIDL Advance authority, including a Self-Certification for Verification of Eligible Entity for Emergency EIDL Advance, SBA Form 3503, along with several other forms used to collect information for COVID-EIDL loans. (OMB Control Number 3245-0406). On July 10, 2020, SBA revised this information collection to remove all references to the EIDL Advance, because the appropriated funds for the EIDL Advance program had been exhausted. SBA received additional funds under the Economic Aid to Hard-Hit Small Businesses, Nonprofits, and Venues Act, (Economic Aid Act), Public Law 116-260, Div. N, Title III, Sec. 323 (December 27, 2020), to provide additional Advances subject to certain conditions. Specifically, Section 331 of the Economic Aid Act requires SBA to provide Targeted EIDL Advances (Targeted EIDL Advance) to certain entities that previously received an EIDL Advance of less than $10,000; entities that previously applied for a COVID-EIDL, but did not receive an EIDL Advance because there were no funds available; and to new COVID-EIDL applicants, subject to the availability of funds. Eligible entities must be located in a low-income community, must have 300 or fewer employees, must have economic losses of greater than 30 percent, and must meet all other eligibility requirements applicable to EIDLs. SBA has created a new application (Form 3514) to collect the information necessary to implement the Targeted EIDL Advance authority. Because the need for this financial assistance is so critical, SBA requested and received emergency approval under 5 CFR 1320.13 for this new information collection. The information will be collected from applicants (small businesses and nonprofits) that are eligible to apply for a Targeted EIDL Advance. SBA's Office of Disaster Assistance (ODA) will use the information in determining whether to approve or disapprove the application.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number: 3245-0419.

(1) Title: Application for COVID-19 Targeted Advance.

Description of Respondents: Individual seeking COVID-19 Economic Injury Disaster Loan Targeted Advance.

Form Number: SBA Form 3514.

Total Estimated Annual Responses: 8,625,250.

Total Estimated Annual Hour Burden: 4,312,625.

Curtis Rich,
Management Analyst.

[FR Doc. 2021-03695 Filed 2-22-21; 8:45 am]

BILLING CODE 8026-03-P